DEPARTMENT OF LABOR

Employment and Training Administration

[TA-W-73,630]

Pricewaterhousecoopers LLP (“PwC”), Internal Firm Services Client Account Administrators Group Atlanta, GA; Amended Certification Regarding Eligibility To Apply for Worker Adjustment Assistance

In accordance with Section 223 of the Trade Act of 1974, as amended (“Act”), 19 U.S.C. 2273, the Department of Labor issued a Certification of Eligibility to Apply for Worker Adjustment Assistance on May 20, 2010, applicable to workers of PricewaterhouseCoopers LLP, Division of Internal Firm Services, Atlanta, Georgia. The notice was published in the Federal Register on June 7, 2010 (75 FR 32224).

At the request of a company official, the Department reviewed the certification for workers of the subject firm. The workers supply internal firm services.

New information shows that the Department did not correctly state the subject firm name in its entirety on the certification decision. The correct name of the subject firm should read PricewaterhouseCoopers LLP (“PwC”), Internal Firm Services Client Account Administrators Group.

Accordingly, the Department is amending this certification to correct the name of the subject firm to read PricewaterhouseCoopers LLP (“PwC”), Internal Firm Services Client Account Administrators Group.

The amended notice applicable to TA-W-73,630 is hereby issued as follows:

All workers of PricewaterhouseCoopers LLP (“PwC”), Internal Firm Services Client Account Administrator Group, Atlanta, Georgia, who became totally or partially separated from employment on or after March 2, 2009, through May 20, 2012, and all workers in the group threatened with total or partial separation from employment on the date of certification through two years from the date of certification, are eligible to apply for adjustment assistance under Chapter 2 of Title II of the Trade Act of 1974, as amended.

Signed at Washington, DC this 20th day of October 2010.
Elliott S. Kushner,
Certifying Officer, Division of Trade Adjustment Assistance.

[FR Doc. 2010-27387 Filed 10-28-10; 8:45 am]

BILLING CODE 4510-FN-P